DEPARTMENT OF HEALTH AND HUMAN SERVICES

National Institutes of Health

Submission for OMB Review; 30-Day Comment Request; National Institutes of Health NeuroBioBank Tissue Access Request and Progress Report Forms (National Institute of Mental Health)

AGENCY: National Institutes of Health, HHS.

ACTION: Notice.

SUMMARY: In compliance with the Paperwork Reduction Act of 1995, the National Institutes of Health (NIH) has submitted to the Office of Management and Budget (OMB) a request for review and approval of the information collection listed below.

DATES: Comments regarding this information collection are best assured of having their full effect if received within 30-days of the date of this publication.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: To request more information on the proposed project or to obtain a copy of the data collection plans and instruments, contact: Dr. Andrew Hooper, National Institute of Mental Health (NIMH) Project Clearance Liaison, Science Policy and Evaluation Branch, Office of Science Policy, Planning and Communications, NIMH, Neuroscience Center, 6001 Executive Boulevard, MSC 9667, Bethesda, Maryland 20892, call (301) 480-8433 or Email your request, including your address to: nimhprapubliccomments@mail.nih.gov.

SUPPLEMENTARY INFORMATION: This proposed information collection was previously published in the Federal Register on July 16, 2024, 89 FR 57915, and allowed 60 days for public comment (https://www.federalregister.gov/d/2024-15588). No public comments were received. The purpose of this notice is to allow an additional 30 days for public comment.

The National Institute of Mental Health (NIMH), National Institutes of Health (NIH), may not conduct or sponsor, and the respondent is not required to respond to, an information collection that has been extended, revised, or implemented on or after October 1, 1995, unless it displays a currently valid OMB control number.

In compliance with Section 3507(a)(1)(D) of the Paperwork Reduction Act of 1995, the NIH has submitted to the Office of Management and Budget (OMB) a request for review and approval of the information collection listed below.

Proposed Collection: NIH NeuroBioBank Tissue Access Request and Progress Report Forms, REVISION, OMB #0925-0723, exp., date 10/31/2024, National Institute of Mental Health, National Institutes of Health (NIH).

Need and Use of Information Collection: This request serves as notice that the National Institutes of Health (NIH) plans to continue supporting the research community studying neurological, developmental, and psychiatric disorders by coordinating access to human post-mortem brain tissue and related biospecimens stored by our federation of networked brain and tissue repositories known as the NIH NeuroBioBank. To facilitate this process, researchers wishing to obtain brain tissue and biospecimens stored by the NIH NeuroBioBank must continue completing the NIH NeuroBioBank Tissue Access Request Form. The primary use of the information collected by this instrument is to document, track, monitor, and evaluate the appropriate use of the NIH NeuroBioBank resources, as well as to notify interested recipients of updates, corrections or changes to the system.

OMB approval is requested for 3 years. There are no costs to respondents other than their time. The total estimated annualized burden hours are 175.

Estimated Annualized Burden Hours
Form name | Type of respondents | Number of respondents | Number of responses per respondent | Average burden per response (in hours) | Total annual burden hours
NBB Tissue Access Request Form (NIH-Funded Research) | Researchers | 200 | 1 | 15/60 | 50
NBB Tissue Access Request Form (Other US Federal Government-Funded Research) | Researchers | 20 | 1 | 15/60 | 5
NBB Tissue Access Request Form (State Government-Funded Research) | Researchers | 20 | 1 | 15/60 | 5
NBB Tissue Access Request Form (Foreign Government-Funded Research) | Researchers | 20 | 1 | 15/60 | 5
NBB Tissue Access Request Form (Private Industry/Commercial-Funded Research) | Researchers | 20 | 1 | 15/60 | 5
NBB Tissue Access Request Form (Other Entity-Funded Research) | Researchers | 20 | 1 | 15/60 | 5
NBB Progress Report | Researchers | 400 | 1 | 15/60 | 100
Total |  | 700 |  |  | 175

Dated: September 18, 2024.
Andrew A. Hooper,
Project Clearance Liaison, National Institute of Mental Health, National Institutes of Health.

[FR Doc. 2024-21686 Filed 9-20-24; 8:45 am]

BILLING CODE 4140-01-P